DEPARTMENT OF HOUSING AND URBAN DEVELOPMENT

[Docket No. FR-7070-N-87]

30-Day Notice of Proposed Information Collection: Evaluation of the Moving To Work (MTW) Expansion Asset Building Cohort, OMB Control No.: 2528-NEW

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: December 22, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Anna Guido, Clearance Officer, REE, Department of Housing and Urban Development, 451 7th Street SW, Room 8210, Washington, DC 20410-5000; email PaperworkReductionActOffice@hud.gov.

FOR FURTHER INFORMATION CONTACT: Anna P. Guido, Reports Management Officer, REE, Department of Housing and Urban Development, 451 7th Street SW, Room 8210, Washington, DC 20410; email: PaperworkReductionActOffice@hud.gov. telephone (202)-402-5535. This is not a toll-free number, HUD welcomes and is prepared to receive calls from individuals who are deaf or hard of hearing, as well as individuals with speech or communication disabilities. To learn more about how to make an accessible telephone call, please visit: https://www.fcc.gov/consumers/guides/telecommunications-relay-service-trs. Copies of available documents submitted to OMB may be obtained from Ms. Guido.

SUPPLEMENTARY INFORMATION: This notice informs the public that HUD is seeking approval from OMB for the information collection described in Section A.

The Federal Register notice that solicited public comment on the information collection for a period of 60 days was published on July 21, 2023 at 88 FR 47158.

A. Overview of Information Collection

Title of Information Collection: Evaluation of the Moving to Work (MTW) Expansion Asset Building Cohort.

OMB Approval Number: 2528-New.

Type of Request: New collection.

Form Number: N/A.

Description of the need for the information and proposed use: The purpose of this proposed information collection is to evaluate the Moving to Work Expansion Asset Building Cohort (hereinafter “Asset Building Cohort”). This 60-day Notice informs the public of intent to collect data about the asset building programs implemented by the PHAs in the Asset Building Cohort and about the HUD-assisted residents selected to participate in the asset building programs. HUD selected 18 Public Housing Agencies (PHAs) to participate in the Asset Building Cohort, and 17 of these PHAs joined the MTW demonstration. Each PHA will implement an opt-out savings program, a rent reporting for credit building program, or a custom asset building program. The savings account and rent reporting programs are described in PIH Notice 2022-11. For the savings account program, PHAs will contribute at least $10 per month for 24 months to at least 25 residents to support buildup of emergency savings. For the rent reporting program, PHAs will report on-time rent payments made by participating public housing residents to credit agencies so that the residents' credit reports will gain a tradeline (rental tradeline). The added rental tradeline may increase residents' credit visibility and credit scores. HUD's Office of Policy Development and Research (PD&R) will evaluate the impacts of these asset building programs. The evaluation requires data from several sources, including the new information collection described in this Notice.

The first phase of the evaluation of the Asset Building Cohort is guided by a few overarching questions: (1) What programs are PHAs implementing? What are the characteristics of the group of residents participating in the programs? (2) How do participants understand the programs? And what do the programs mean for them personally? The programs will run for two years. The first phase of the evaluation will collect data from the following samples:

(1) PHA staff (n = 51), staff of partner organizations (n = 12), and PHA residents (n= 10)

(2) Residents that volunteered for the rent reporting for credit building pilot program, including households that were randomly assigned to have their rent payments reported to credit agencies and households that were assigned to a control group (who don't have their rent payments reported to credit agencies) (n = 300)

(3) Residents that volunteered for the rent reporting for credit building pilot program and agree to participate in in-depth qualitative interviews at up to four time points during the two years that the PHA is required to offer the program (n = 40)

The evaluator will conduct interviews of about 1 hour with staff from participating PHAs, organizational partners (e.g., a bank that partners with a PHA to set up savings accounts for unbanked residents), and PHA residents to better understand facilitators and challenges to starting and running the asset building programs. The evaluator will interview up to 3 staff per PHA at all 17 PHAs, up to 3 partners at 4 PHAs selected for in-depth case studies, and up to 5 residents at 2 of the case study PHAs.

Residents participating in the rent reporting programs must complete an Informed Consent Form (ICF) and Baseline Information Form (BIF). The BIF will provide important information not otherwise available from HUD's administrative data, such as whether the household has significant barriers to employment. The BIF will take on average 15 minutes to complete. After enrollment in the program, 40 participants, including 20 members of the treatment group and 20 members of the control group, will be asked to participate in qualitative interviews of about 90 minutes each at two different time points during the first year of the rent reporting programs. The qualitative interviews will focus on experiences with the rent reporting program, household budgeting, and the broader context of interactions with banking, credit, and financial institutions. The Federal Register Notice provides an opportunity to comment on the data collection instruments and associated materials to be administered to the respondents at PHAs (including staff and residents) in the Asset Building Cohort and at partner organizations.

Respondents: Adults who work at, provide services at, or are assisted by PHAs participating in the Asset Building Cohort.

Information collection | Number of respondents | Frequency of response | Responses per annum | Burden hour per response | Annual burden hours | Hourly cost per response | Annual cost
Program Implementation PHA staff interview guide | 51 | 1 | .33 | 1 | 17 | $57.60 | $979.20
Program Implementation partner staff interview guide | 12 | 1 | .33 | 1 | 4 | 42.48 | 169.92
Program Implementation resident interview guide | 10 | 1 | .33 | 1 | 3.33 | 10.31 | 34.37
Rent Reporting Informed Consent Form | 300 | 1 | .33 | .25 | 25 | 11.05 | 276.25
Rent Reporting Baseline Information Form | 300 | 1 | .33 | .25 | 25 | 11.05 | 276.25
Rent Reporting Qualitative Interview Guide 1 | 40 | 1 | .6667 | 1.5 | 40 | 11.05 | 442.00
Rent Reporting Qualitative Interview Guide 2 | 40 | 1 | .6667 | 1.5 | 40 | 11.05 | 442.00
Total burden annualized over 3-year period.
The average hourly rate for HUD-assisted households is calculated as follows: (1) For the Program Implementation resident interview guide we averaged the minimum wages of all states with a PHA implementing a Savings Account option, which includes California, Florida, Massachusetts, New Hampshire, Ohio, Oregon, and South Carolina, and calculate the average hourly minimum wage as $10.31. (2) For the interviews that apply only to PHAs in the rent reporting study, we averaged the minimum wages of all states with a PHA in the rent reporting study, which includes Connecticut, Florida, Idaho, Illinois, Maine, and New Hampshire, and and calculate the average hourly minimum wage as $11.05.
The average hourly rate for PHA staff ($57.60) is based on the average employer costs for State and Local Government employees. (Source: Bureau of Labor Statistics, December 2022 Employer Costs for Employee Compensation) The average hourly rate for partner organization staff ($42.48) is based on the average employer costs for civilian employees.
(Source: Bureau of Labor Statistics, December 2022 Employer Costs for Employee Compensation)

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. chapter 35.

Anna P. Guido,
Department Reports Management Office, Office of Policy Development and Research, Chief Data Officer.

[FR Doc. 2023-25855 Filed 11-21-23; 8:45 am]

BILLING CODE 4210-67-P